DEPARTMENT OF COMMERCE

National Oceanic and Atmospheric Administration

[I.D. 021207E]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Committee, Southeast Data, Assessment, and Review (SEDAR) Committee, Controlled Access Committee, Mackerel Committee, Scientific and Statistical Committee (SSC) Selection Committee, a joint meeting of its Habitat Committee and Ecosystem-Based Management Committee, Economics Committee, Shrimp Committee, Information and Education Committee, a joint meeting of its Executive Committee and Finance Committee, and a meeting of the full Council. In addition, the Council will also hold a public hearing regarding Amendment 18 to the Fishery Management Plan for Coastal Migratory Pelagics in the South Atlantic and Gulf of Mexico, and a general public input session.

DATES: The meetings will be held in March 2007. See SUPPLEMENTARY INFORMATION for specific dates and times.

ADDRESSES: The meetings will be held at the Jekyll Island Club Hotel, 371 Riverview Drive, Jekyll Island, GA 31527; telephone: (1-800) 535-9547 or (912) 635-2600; fax: (912) 635-2818. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Snapper Grouper Committee Meeting: March 5, 2007, 1:30 p.m. until 6 p.m., and March 6, 2007, from 8 a.m. until 12 noon.

The Snapper Grouper Committee will receive reports and develop recommendations for: the gag grouper stock assessment from NOAA Fisheries, the Oculina Evaluation Report regarding the size and configuration of the Oculina Experimental Closed Area, and Amendment 14 to the Snapper Grouper Fishery Management Plan regarding marine protected areas (MPAs), including comments received regarding the Draft Environmental Impact Statement and transit issues. In addition, the Committee will receive a report on the status of Amendment 15 to the Snapper Grouper Fishery Management Plan (rebuilding for snowy grouper, black sea bass, and red porgy, etc.) and NOAA Fisheries' updates on the online quota monitoring system and the status of the permits/logbook/landings database and ability to tie landings to vessels. The Committee will also discuss allocations of species in the snapper grouper management complex.

2. SEDAR Committee Meeting: March 6, 2007, 1:30 p.m. until 2:30 p.m. The SEDAR Committee will review actions from the SEDAR Steering Committee, discuss scientific research priorities, review appointees for SEDAR 15 (assessments for greater amberjack and white grunt), discuss the status of vermilion snapper update, and the process for establishing a total allowable catch (TAC).

3. Controlled Access Committee Meeting: March 6, 2007, 2:30 p.m. until 4:30 p.m.

The Controlled Access Committee will meet to discuss the establishment of a Limited Access Privilege (LAP) Program Workgroup, review a list of nominees and meeting dates, and develop recommendations for appointing workgroup members. The Committee will also review a draft Action Plan for LAPs and develop recommendations.

March 6, 2007, 4:30 p.m. - The Council will hold a Public Input Session. Members of the public are invited to address the Council on items listed on the agenda or any other fishery issue that falls under the jurisdiction of the Council.

March 6, 2007, 6 p.m. - The Council will hold a Public Hearing for Amendment 18 to the Fishery Management Plan for Coastal Migratory Pelagic Resources of the Gulf of Mexico and South Atlantic. The Amendment addresses changes in TAC for both king and Spanish mackerel and changes in the fishing year for Spanish mackerel.

4. Mackerel Committee Meeting: March 7, 2007, 8 a.m. until 11 a.m.

The Mackerel Committee will receive an overview of Amendment 18 timing issues and develop recommendations. The Committee will also review a draft scoping document for Amendment 16 (boundary and mixing issues, permits, and separate management plans from Gulf of Mexico Fishery Management Council) and make recommendations.

5. Scientific and Statistical Committee (SSC) Selection Committee Meeting: March 7, 2007, 11 a.m. until 12 noon

The SSC Selection Committee will meet to discuss new requirements affecting the SSC in the Magnuson-Stevens Fishery Conservation and Management Act amendments.

6. Joint Habitat and Ecosystem-Based Management Committees Meeting: March 7, 2007, 1:30 p.m. until 4:30 p.m.

The Habitat and Ecosystem-Based Management Committees will receive a presentation on Liquid Nitrogen Gas exploration and review and approve policy statements on energy and offshore aquaculture. The Committees will also review and approve the Deep Water Coral Research Plan and receive updates on the status of the Council's Fishery Ecosystem Plan (FEP) and FEP Comprehensive Amendment.

7. Economics Committee Meeting: March 7, 2007, 4:30 p.m. until 6 p.m.

The Economics Committee will review the Socioeconomics Section of the draft FEP and make recommendations. The Committee will also discuss development of a Socioeconomic Guidance Document and develop recommendations.

8. Shrimp Committee Meeting: March 8, 2007, 8 a.m. until 10 a.m.

The Shrimp Committee will review a report of the Shrimp Review Panel and provide recommendations, receive an overview of the “use it or lose it” provision for the rock shrimp fishery and develop recommendations, and discuss additional items to include in Amendment 6 to the Shrimp FMP and make recommendations.

9. Information and Education Committee Meeting: March 8, 2007, 10 a.m. until 12 noon.

The Information and Education Committee will receive an update on the Council website and provide recommendations.

10. Joint Executive/Finance Committees Meeting: March 8, 2007, 1:30 p.m. until 3 p.m.

The Executive and Finance Committees will meet to discuss the status of the Fiscal Year (FY) 2007 Congressional budget, review the Calendar Year (CY) 2007 FMP/Amendment/Framework timelines, develop CY 2007 activities schedule and budget, and discuss amendments to the reauthorized Magnuson-Stevens Act.

11. Council Session: March 8, 2007, 3:30 p.m. until 6 p.m. and March 9, 2007, 8 a.m. until 12 noon

Council Session: March 8, 2007

From 3:30 p.m.—3:45 p.m., the Council will call the meeting to order, adopt the agenda, and approve the December 2006 meeting minutes.

From 3:45 p.m.—4 p.m., the Council will receive a report from the Scientific and Statistical Committee regarding its December 2006 meeting.

From 4 p.m.—5 p.m., the Council will hear a report from the Snapper Grouper Committee and take action as appropriate.

From 5 p.m.—5:15 p.m., the Council will hear a report from the SEDAR Committee and take action as appropriate.

From 5:15 p.m.—5:45 p.m., the Council will hear a report from the Controlled Access Committee and take action as appropriate.

From 5:45 p.m.—6 p.m., the Council will hear a report from the Mackerel Committee and take action as appropriate.

Council Session: March 9, 2007

From 8 a.m.—8:30 a.m., the Council will receive a NOAA General Counsel briefing on litigation issues (CLOSED SESSION).

From 8:30 a.m.—8:45 a.m., the Council will receive a report from the SSC Selection Committee and take action as appropriate.

From 8:45 a.m.—9 a.m., the Council will receive a report from the Joint Habitat and Ecosystem-Based Committees and take action as appropriate.

From 9 a.m.—9:15 a.m., the Council will receive a report from the Economics Committee and take action as appropriate.

From 9:15 a.m.—9:30 a.m., the Council will receive a report from the Shrimp Committee and take action as appropriate.

From 9:30 a.m.—9:45 p.m., the Council will receive a report from the Information and Education Committee and take action as appropriate.

From 9:45 a.m.—10 a.m., the Council will receive a report from the Joint Executive/Finance Committees and take action as appropriate.

From 10 a.m.—12 noon, the Council will receive a report regarding the Council Chairmen's Meeting, receive status reports from NOAA Fisheries' Southeast Regional Office, NOAA Fisheries' Southeast Fisheries Science Center, agency and liaison reports, review Experimental Fishing Permit applications as necessary, and discuss other business including upcoming meetings.

Documents regarding these issues are available from the Council office (see ADDRESSES).

Although non-emergency issues not contained in this agenda may come before this Council for discussion, those issues may not be the subjects of formal Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by March 1, 2007.

Dated: February 12, 2007.
James P. Burgess,
Acting Director, Office of Sustainable Fisheries, National Marine Fisheries Service.

[FR Doc. E7-2738 Filed 2-15-07; 8:45 am]

BILLING CODE 3510-22-S